DEPARTMENT OF STATE

[Public Notice 3673]

Bureau of Educational and Cultural Affairs Request for Grant Proposals (ECA/PE/C/CU-01-64): Creative Arts Exchange Programs for Africa, East Asia and the Pacific, and Central Asia

SUMMARY: The Cultural Programs Division of the Bureau of Educational and Cultural Affairs (ECA) announces an open competition for assistance awards for international Creative Arts Exchanges. Public and private U.S. non-profit organizations meeting the provisions described in IRS regulation 26 CFR 1.501(c) may submit proposals to conduct programs for Cultural Tourism in Africa; Performing Arts Presenters in East Asia and the Pacific; or Protecting Cultural Heritage: Film And Documentary Archives In Central Asia.

Program Information

Overview: The Bureau of Educational and Cultural Affairs (ECA) invites applicants to submit proposals that promote the institutional capacity, professional expertise and economic viability of arts institutions and cultural entities in Africa, East Asia and the Pacific, and Central Asia. Programs supported by the Creative Arts Exchanges grants should create or expand ongoing institutional partnerships, and offer experiential learning activities, and share methods and materials that will enhance the development of their cultural institutions and management skills. This program is not academic in nature; programs should be designed to provide practical, hands-on experience.

Guidelines: The proposal should anticipate a grant period that will begin no earlier than September 1, 2001.

Competitive proposals usually have the following characteristics: (1) An active, existing partnership between a U.S. organization and the foreign partner institution(s), or strong potential to develop a sustainable, productive partnership; (2) a proven successful track record for conducting similar program activity; (3) experienced staff with knowledge of the region and local language(s) ability; (4) a clear and reasonable implementation plan and well-articulated expected outcomes; (5) a two-way exchange; and (6) concrete ideas for possible follow-on activities to take place after the funded grant period.

Proposals should reflect a practical understanding of the current cultural, political, economic and social environment that is relevant to the theme addressed in the proposal. Proposals should also indicate a strong knowledge of cultural activities and organizations working in the region. Applicants should identify the U.S. and foreign partner organizations and individuals with whom they are proposing to collaborate and describe in detail previous cooperative projects in the section on “Institutional Capacity.” Proposals should give an indication that the program ideas were jointly developed between the American and foreign organization(s). Resumes for proposed U.S. and foreign staff, trainers, consultants should be included in the proposal.

Unless otherwise specified below: (1) Program activities may include: A cost-effective needs assessment; an open, merit-based selection process; short-term training; study tours; consultations; site visits; internships; performances or exhibits; a specific group project; and extended, intensive workshops; (2) Programming should include a U.S. exchange component for foreign participants; (3) In-country activities should be designed to reach a wide audience and give the exchange participants an opportunity to be co-leaders on workshops, (4) Orientation sessions are required for both foreign and U.S. participants, and (5) The project should include activities that promote two-way exchanges and allow the foreign program participants to experience American life and culture, and that will provide Americans an opportunity to learn about the culture of the partner's country.

Programs should be designed so that collaboration and information sharing that occurs during the grant period will continue long after the grant period is over. Proven methods of sustainability include, but are not limited to: A commitment to create or support joint or in-country cultural projects; joint activities recognized by the international community; regularly published electronic and/or hard-copy newsletters; and ongoing mentoring through Internet communication or other means.

To be considered for a grant award in this competition, the proposed exchange program must address one of the following themes:

• Cultural Tourism (Single-Country Program with Ghana, Mali or Niger)

• Performing Arts Presenters (Single-Country/City Program with Indonesia, Korea, Vietnam or Hong Kong)

• Protecting Cultural Heritage: Film And Documentary Archives In Central Asia (Single- or Multiple-Country Program with the Central Asian countries of the New Independent States: Kazakhstan, Kyrgyzstan, Tajikistan, Turkmenistan and Uzbekistan)

Cultural Tourism

Overview: For many African countries there are few opportunities on a local or regional level to carve out a viable sector of the nation's economy. Africa's rich culture and traditions, and historical links to the global community, provide an environment unmatched in its potential for establishing a strong cultural tourism industry. Cultural tourism encourages increased involvement in the historical growth of a region, responsible stewardship of local resources, develops the local economy, and strengthens educational institutions. An established tourist industry will also provide a foundation for grassroots business development.

Museums and other culturally important sites are the gateway to tourism development, the focal point from which the tourist industry expands. Each African country has its own history, resources and professional expertise from which to establish the historical cultural tourism industry. The goals of this program are threefold: (1) To create and enhance ongoing international partnerships between specific sites in the U.S. and the African countries participating in this program, (2) to bring African and American visual arts and cultural heritage professionals together in a global arena, and (3) to comprehensively improve a specific culturally important site that will result in increased cultural tourism for the region.

Program Guidelines: Applicants are invited to submit a proposal for a two-way exchange program focusing on cultural tourism in Ghana, Mali or Niger. The program may be centered on a specific cultural site (e.g. museum, nature preserve, historical landmark, archaeological site, etc.). The program plan should indicate a balanced exchange of participants, build on an existing foundation, and include joint work for the enhancement of interpretive and educational programming and other components marketable in the area of international tourism.

Applicants are strongly encouraged to focus on the following themes when developing proposals:

Ghana: Slave Routes within Ghana. The program should focus on the northern region in Ghana, using lessons learned from the existing, well-established tourist trade on the coast of the central region.

Mali: Archaeological Tourism and Cultural Heritage. The proposal should focus on conserving and developing for tourism the archaeological sites of Jenne-Jenna and/or Mopti. This program will build on an assessment conducted by American Cultural Specialists on a previous ECA grant.

Niger: Eco/Cultural Tourism with Rock Art or Dinosaur Fossil Beds. The program should analyze the potential to study, conserve and develop for tourism Niger's dinosaur fossil beds and 8,000-year-old rock art.

The program plan should follow the program and budget guidelines included in this RFGP. In addition, the proposal should include the following components:

• Assessment site visit, if necessary.

• Video Documentation of the cultural site development throughout the grant period, conducted jointly with local staff to ensure the continuation of documentation after the grant period ends.

• At least one seminar on general museology, the role of museums in cultural tourism, and other relevant topics in cultural tourism for a wide audience. Target audience may include government officials at the local to ministry level, museum professionals, cultural specialists, tourist board, land management office, tourist agencies, national arts council and museums association. African and American participants should jointly plan and co-conduct the in-country seminars.

Additional program elements can include, but are not limited to:

• Creation of work plans to develop and run a cultural site or museum for the purpose of tourism development.

• Study tour of U.S. cultural heritage sites.

• Modest purchases of equipment or services.

• Development of educational and interpretive presentations and materials.

Program Participants: The U.S. grantee organization will recruit a mix of upper and mid-level professionals (decision makers and hands-on professionals) to participate in this program. The partner organizations will advertise to a wider target audience for the in-country seminar(s) on topics in cultural tourism.

Organizations planning to submit a proposal for Cultural Tourism in Africa are encouraged to contact the program office for a consultation before the submission deadline: Susie Baker sbaker@pd.state.gov; Tel: (202) 205-2209. Before calling, organizations should be ready to discuss a concrete concept specific to the guidelines supplied in this request for grant proposals.

Performing Arts Presenters

Overview: This project is intended to present opportunities for performing arts presenters in the U.S. to learn about management styles in Vietnam, Korea, Indonesia or Hong Kong and for their presenters to gain knowledge about the field in the U.S. The exchange will offer opportunities for arts managers to acquaint themselves with the range of performing artists in each other's country. Performing arts tours can help solve problems and reduce tensions caused by deep-rooted differences between the mindsets of Americans and citizens of other countries. Carrying out such exchanges is often hampered by the very cultural misperceptions that such tours hopefully can address, along, of course, with contractual misunderstanding, incompatible management styles, country-specific labor idiosyncrasies, intellectual property issues, mismatched venue expectations, etc. This program should create an arts management infrastructure that increases the access countries have to each other's performing arts groups and the cultural insight that such access brings. This cultural insight is particularly valuable to the U.S. at this time vis-à-vis Vietnam, Korea, Indonesia or Hong Kong—countries in which trade can be increased, human rights issues resolved, and bilateral tensions decreased more easily within a context of greater mutual understanding.

Program Guidelines: Applicants are invited to submit proposals for the Performing Arts Presenters program. The proposed program should facilitate the exchange of ideas and joint projects between arts presenters in the U.S. and one of the eligible countries listed above. Through joint collaboration and program elements designed to remove cross-cultural barriers, participants should examine the ideas, motivations, and presentation practices of their international counterparts, develop work plans, and participate in program activities that will help each side better understand how the other side operates.

Ideally, the program would culminate in an artistic exchange of performers from Indonesia, Korea, Vietnam or Hong Kong to the U.S. through cost sharing and/or third party funding. The goal of the program is to create an environment of mutual understanding and ongoing collaboration between performing arts presenters from different countries in order to achieve fruitful artistic exchanges.

Competitive proposals should include, but are not limited to, the following four components:

• Consultation/assessment visit by American arts presenters to Vietnam, Korea, Indonesia or Hong Kong: A team of seasoned American arts presenters will travel overseas to meet with leading arts presenters in the region, to increase their knowledge of performing arts presentations and assess performance philosophy and venues.

• Workshops in the U.S.: American experts in performing arts presentation will conduct workshops in the U.S. for foreign participants. Workshop topics should focus on legal, contractual, marketing, commercial and logistical issues involved with presenting American performing artists. Workshops should also address similarities and differences between performing arts organizations in the U.S. and overseas region, and an overview of the difficulties that American performing artists encounter when conducting overseas tours. Experiential workshops could also include case studies and problem solving exercises.

• National or regional conference for arts presenters: An opportunity for leading performing arts presenters from the overseas region to attend one of the national or regional conferences for arts presenters in the U.S., where the participants would have an opportunity to increase their understanding, with the aid of mentors, of trends in the arts presentation field and to view a wide range of performing artists. At the conclusion of this component, the American and foreign arts presenters will develop proposals and timelines to present specific artists in each other's country.

• Seminar or presentation for performing arts presenters in the overseas region: The proposed plan should include at least one in-country seminar or presentation for a group of performing arts presenters on an issue related to the grant theme, to maximize cost-effectiveness and share expertise with a wider audience.

Program Participants: (1) The grantee organization will recruit American performing arts presenters for the initial assessment visit and final phase of the project, and (2) The grantee organization will recruit qualified foreign performing arts presenters in the overseas region.

Protecting Cultural Heritage: Film and Documentary Archives in Central Asia

Overview: Prior to the collapse of the Soviet Union, the national film archive in Moscow was the central and official government repository of most of the country's feature films, documentary films, and other historical audiovisual materials. With independence, the former Soviet Central Asian countries became responsible for preserving their own film and documentary heritage for use within their country and to share with foreign professionals and public audiences. But their archives lack the means to fully achieve this.

Program Guidelines: ECA invites applicants to submit proposals for an exchange program with documentary and film archives in Central Asia that will help them become economically viable, self-sustaining cultural and scientific institutions with the structure and specialized personnel able to maintain, preserve and restore the film and documentary records of Central Asia and make them available for research, study, public screenings and film exchanges with American archives. The proposed program would link a non-profit American cultural institution with a partner organization in some or all of the following countries: Kazakhstan, Kyrgyzstan, Tajikistan, Turkmenistan, and Uzbekistan. Through site inspections, film collection assessments, workshops, seminars, training sessions and other relevant activities, the American and overseas partners would cooperate in identifying and resolving priority preservation problems requiring immediate attention. Further program components should yield steps toward long-term solutions to other problems as identified and prioritized through a joint decision making process. These program elements should deal with such matters as copyright protection and intellectual property rights, archive administration and management, film and documentary exchanges with other institutions, technology development, economic growth and sustainability as well as cataloguing, conservation, and other film preservation practices.

The goal of the proposed exchange is to upgrade and strengthen Central Asian archives so they qualify for membership in the International Federation of Film Archives (FIAF), whose members include more than 100 institutions in over 63 countries which collect, restore, document and exhibit films. FIAF membership would provide the Central Asian archives with a number of benefits, including film loans and information on congresses, symposia and workshops on film preservation. More importantly, the archives would become part of an international network of technical advice and information exchange among the world's largest association of moving image archives, thus multiplying and maximizing the institutional linkage of the proposed exchange described here. Priority consideration will be given to the proposal that can achieve this goal.

In addition to the activities included in this RFGP's general program and budget guidelines, proposed funding would support the following specific activities.

• Site inspection to assess immediate and long-term preservation and archival issues, and to jointly plan an exchange visit to the U.S.

• Assessment of archival film holdings, examination of their cultural and historical significance, and evaluation of potential for film exchanges between the U.S. and the countries of Central Asia.

• Examination of archival relationships to local film production and distribution companies.

• In-country presentation(s) and discussions with a larger group of Central Asian film professionals on issues related to film preservation and archives, to maximize cost-effectiveness and share expertise with a wider audience.

The organization(s) awarded this grant will work closely with the program office on all aspects of program implementation and will maintain contact with the Public Affairs Section(s) of the U.S. embassy/ies regarding in-country phases of the program.

Organizations planning to submit a proposal for Film and Documentary Archives in Central Asia are strongly encouraged to contact the program office for a consultation before the submission deadline: Susan Cohen scohen@pd.state.gov; Tel: (202) 619-5792. Before calling, organizations should be ready to discuss a concrete concept specific to the guidelines supplied in this request for grant proposals.

Selection of Participants

To be competitive, proposals should include a description of an open, merit-based participant selection process, including recruitment methods, selection criteria and proposed reviewers. A sample application should be submitted with the proposal. In some cases, the applicant pool may be small due to the level of expertise required or nature of the program. An application process should still be carried out to (1) ensure fair selection, (2) give applicants a forum in which to address their personal and professional needs and program goals, (3) provide the ECA program office and U.S. embassy an opportunity to participate in the selection process, and (4) collect necessary information for travel documents and visas. Applicants should expect to carry out the entire selection process, but the ECA Program Office and the Public Affairs Section of the U.S. Embassy abroad should be consulted. ECA and the U.S. Embassies retain the right to nominate participants and to approve or reject participants recommended by the grantee institution. Priority must be given to foreign participants who have not traveled to the United States.

Visa Regulations

Foreign participants on programs sponsored by The Bureau are granted J-1 Exchange Visitor visas by the U.S. Embassy in the sending country. All programs must comply with J-1 visa regulations. Please refer to the Proposal Submission Instructions (PSI) for further information.

Project Funding

The funding available for Creative Arts Exchanges will be disbursed through grants to several organizations. Priority will be given to grant proposals with budgets ranging from $45,000 to $90,000. Organizations should not submit a budget that exceeds $90,000 in costs to be paid by ECA, however the overall budget may exceed $90,000 through cost sharing by the U.S. and foreign partner organization(s) and/or a third party funder. Approximately $270,000 has been allotted for this competition, but may be subject to change. ECA expects to announce the assistance awards recipients around late July 2001. Organizations with less than four years of experience in managing international exchange programs are limited to $60,000. Grants are subject to the availability of funds.

Budget Guidelines

Applicants must submit a comprehensive line item budget for the entire program based on the model in the Proposal Submission Instructions. There must be a summary budget as well as breakdowns reflecting both administrative and program budgets. Applicants should provide separate sub-budgets for each program component, phase, location, or activity. Applicants should include a budget narrative or budget notes for clarification of each line item.

Cost sharing: Since the Bureau's grant assistance constitutes only a portion of total project funding, proposals should list and provide evidence of other sources of cost sharing, including financial and in-kind support. In kind contributions may include, but are not limited to, donations of airfares, hotel and/or housing costs, ground transportation, interpreters, room rentals and equipment. Proposals with substantial private sector support from foundations, corporations, and other institutions will be considered highly competitive. Please refer to the statement on cost sharing in the Proposal Submission Instructions.

Allowable costs for the program include the following:

1. Transportation. International and domestic airfares (per the Fly America Act), transit costs, ground transportation costs, and visas for U.S. participants to travel to the partner organization's country (J-1 visas for foreign participants to travel to the U.S. for travel funded by ECA's grant assistance are issued at no charge).

2. Per Diem. For U.S.-based programming, organizations should use the published Federal per diem rates for individual U.S. cities. For activities in the partner organization's country, ECA strongly encourages applicants to budget realistic costs that reflect the local economy. Domestic per diem rates may be accessed at: http://www.policyworks.gov/ and foreign per diem rates can be accessed at: http://www.state.gov/www/perdiems/index.html.

3. Interpreters. Local interpreters with adequate skills and experience should be used for program activities. Typically, one interpreter is provided for every four visitors who require interpreting, with a minimum of two interpreters. ECA grants do not pay for foreign interpreters to accompany delegations from their home country. Salary costs for local interpreters must be included in the budget under general program costs. Costs associated with using their services may not exceed rates for U.S. Department of State interpreters.

4. Book and cultural allowance. Foreign participants are entitled to a one-time cultural allowance of $150 per person, plus a book allowance of $50. Interpreters should be reimbursed up to $150 for expenses only when they escort participants to cultural events. U.S. program staff, consultants, trainers and participants are not eligible to receive these benefits.

5. Consultants. Consultants may be used to provide specialized expertise or to conduct program components. Daily honoraria cannot exceed $250 per day. Subcontracting organizations may also be used, in which case the written agreement between the prospective grantee and subcontractor should be included in the proposal. Subcontracts must be itemized in the budget.

6. Room rental. Room rental may not exceed $250 per day.

7. Materials development. Proposals may contain costs to purchase, develop and translate materials for participants. ECA strongly discourages the use of automatic translation software for the preparation of training materials or any information distributed to the group of participants or network of organizations. Costs for high-quality translation of materials should be anticipated and included in the budget. Grantee organizations should expect to submit a copy of all program materials to the ECA Program Office with interim and final reports.

8. Equipment. Proposals may contain costs to purchase equipment for programming and partner organizations in the target country. Use of equipment purchased with grant funds must be significantly incorporated into the program plan. Eligible items include: Computers, printers, scanners, digital cameras, audio/video equipment, fax machines, copy machines, or other computer or office equipment. Costs for furniture are not allowed. Equipment costs must be kept to a minimum and are subject to approval by ECA.

9. Working meal. Only one working meal may be provided during the program. Per capita costs may not exceed $5-8 for a lunch and $14-20 for a dinner, excluding room rental. The number of invited guests may not exceed participants by more than a factor of two-to-one. Interpreters must be included as participants.

10. Return travel allowance. A return travel allowance of $70 for each foreign participant may be included in the budget. The allowance may be used for incidental expenses incurred during international travel.

11. Health Insurance. Foreign participants will be covered under the terms of the ECA-sponsored ASPE health insurance policy. U.S. staff, consultants, trainers and participants will not be covered by the ECA-sponsored ASPE health insurance policy. Applicants are permitted to include costs in the program budget for U.S. participants' international travel insurance, for travel funded under this program.

12. Administrative Costs. Costs necessary for the effective administration of the program may include salaries for grantee organization employees, benefits, and other direct and indirect costs per detailed instructions in the Application Package. While there is no rigid ratio of administrative to program costs, priority will be given to proposals whose administrative costs are less than twenty-five (25) per cent of the total requested from the Bureau. Proposals should show strong administrative cost-sharing contributions from the applicant, the partner organization and other sources.

Review of your budget will benefit from your professional judgment of costs for activities in the proposal. The Bureau is committed to containment of administrative expenses, consistent with overall program objectives and sound management principles. Program activities and line items to be cost-shared should be included in the narrative and the budget. Please refer to the Proposal Submission Instructions (PSI) for complete budget guidelines.

Announcement Title and Number

All communications with ECA concerning this Request for Grant Proposals (RFGP) should refer to the announcement title “Creative Arts Exchanges FY01” and reference number ECA/PE/C/CU-01-64.

Review Criteria

Technically eligible applications will be competitively reviewed according to the criteria stated below. Proposals should adequately address each area of review. These criteria are not rank ordered.

1. Program Planning and Ability To Achieve Objectives

Program objectives should be stated clearly and precisely and should reflect the applicant's expertise in the subject area and the region. Objectives should respond to the priority topics in this announcement and should relate to the current conditions in the included countries. Objectives should be reasonable and attainable. A detailed work plan should explain step-by-step how objectives will be achieved and should include an overall timetable for completion of major tasks for the entire grant period, and sample schedules for program components wherever possible. The substance of workshops, internships, seminars, presentations and/or consulting should be described in detail. Responsibilities of foreign partners should be clearly described.

2. Institutional Capacity

The proposal should include: (1) The U.S. institution's mission and date of establishment, (2) detailed information about the foreign partner institution's capacity and the history of joint projects, (3) descriptions of experienced staff members who will implement the program, and (4) relevant information that establishes a successful track record. Proposed personnel and institutional resources should be adequate and appropriate to achieve the program's goals. The narrative should demonstrate proven ability to handle logistics. The proposal should reflect the institution's expertise in the subject area and knowledge of the conditions in the target country/region(s).

3. Cost Effectiveness and Cost Sharing

Overhead and administrative costs for the proposal, including salaries, honoraria and subcontracts for services, should be kept to a minimum. Administrative costs should be less than twenty-five (25) per cent of the total funds requested from the Bureau. Applicants are encouraged to cost share a portion of overhead and administrative expenses. Cost-sharing, including contributions from the applicant, the foreign partner, and other sources should be included in the budget.

4. Program Evaluation

Proposals must include a plan and methodology to evaluate the program. The evaluation plan should show a clear link between program objectives and expected outcomes in the short- and medium-term, and provide a well-thought-out description of performance indicators and measurement tools. ECA recommends that the proposal include a draft survey questionnaire or other evaluation tool.

5. Multiplier Effect/Impact

Proposals should show how the program will strengthen long-term mutual understanding, institutionalization of program goals, and widespread sharing of information. Applicants should describe how responsibility and ownership of the program will be transferred to the foreign participants to ensure continued activity and impact. Programs that include convincing plans for sustainability will be given top priority.

6. Follow-On Activities

Proposals should provide a plan for continued follow-on activity (beyond the ECA-funded grant period) ensuring that the ECA-supported programs are not isolated events. Concrete examples of potential follow-on activities should be clearly described.

7. Support of Diversity

Proposals should demonstrate substantive support of ECA's policy on diversity. Program content (orientation, evaluation, program sessions, resource materials, follow-on activities) and program administration (selection process, orientation, evaluation) should address diversity in a comprehensive and innovative manner. Applicants should refer to the “Diversity, Freedom and Democracy Guidelines” on page four of the Proposal Submission Instructions (PSI).

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be forwarded to panels of Bureau officers for advisory review. Proposals may also be reviewed by the Office of the Legal Adviser or by other Department elements. Final funding decisions are at the discretion of the Department of State's Acting Assistant Secretary for Educational and Cultural Affairs. Final technical authority for assistance awards resides with the Bureau's Grants Officer.

Submissions

Applicants must follow all instructions given in the Application Package. The applicant's original proposal and ten (10) copies should be sent to: U.S. Department of State, Ref.: ECA/PE/C/CU-01-64, Program Management, ECA/EX/PM, Room 336, 301 4th Street, SW, Washington, DC 20547.

Applicants must also submit the “Executive Summary” and “Proposal Narrative” and “Budget” sections of the proposal on a 3.5″ diskette. The Bureau will transmit these files electronically to the Public Affairs section at the U.S. Embassy for its review, with the goal of reducing the time it takes to get embassy comments for the Bureau's grants review process. Once the RFGP deadline has passed, Bureau staff may not discuss this competition in any way with applicants until the proposal review process has been completed.

Deadline for Proposals

All copies must be received by the U.S. Department of State, Bureau of Educational and Cultural Affairs, by 5 p.m. Washington, DC time on Thursday, June 21, 2001. Faxed documents will not be accepted at any time. The mailroom closes at 5:00 p.m. sharp; no late submissions will be accepted. Documents postmarked or sent by express mail or courier to arrive by June 21, 2001, but received at a later date, will not be accepted. Each applicant must ensure that the proposals are received by the above deadline.

To Download an Application Package Via the Internet

The entire Application Package (RFGP and PSI) may be downloaded from the Bureau's website at http://exchanges.state.gov/education/rfps/.

For Further Information Contact: By mail: United States Department of State, SA-44, Bureau of Educational and Cultural Affairs, Office of Citizen Exchanges (ECA/PE/C), Room 220, Washington, D.C. 20547 attn: Creative Arts Exchanges ECA/PE/C/CU-01-64;

By phone: Tel: (202) 619-4779; fax: 202-619-6315;

By e-mail: lproctor@pd.state.gov.

Interested applicants may request the Application Package, which includes the Request for Grant Proposals (RFGP) and the Proposal Submission Instructions (PSI). Please specify Creative Arts Exchanges ECA/PE/C/CU-01-64 on all inquiries and correspondence. All potential applicants should read the complete announcement before sending inquiries or submitting proposals.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *, to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau or program officers that contradicts published language will not be binding. Issuance of the RFGP does not constitute an award commitment on the part of the U.S. Government. The Bureau reserves the right to reduce, revise, or increase proposal budgets in accordance with the needs of the program and the availability of funds. Awards made will be subject to periodic reporting and evaluation requirements. Organizations will be expected to cooperate with the Bureau in evaluating their programs under the principles of the Government Performance and Results Act (GPRA) of 1993, which requires federal agencies to measure and report on the results of their programs and activities.

Final awards cannot be made until funds have been appropriated by Congress, allocated and committed through internal U.S. Department of State procedures.

Notification

Final awards cannot be made until funds have been appropriated by Congress, allocated and committed through internal U.S. Department of State procedures.

Dated: May 7, 2001.
Helena Kane Finn,
Acting Assistant Secretary for Educational and Cultural Affairs, U.S. Department of State.

[FR Doc. 01-12571 Filed 5-18-01; 8:45 am]

BILLING CODE 4710-05-P